DEPARTMENT OF HEALTH AND HUMAN SERVICES

Health Resources and Services Administration

CDC/HRSA Advisory Committee on HIV and STD Prevention and Treatment; Ryan White Comprehensive AIDS Resources Emergency (CARE) Act; Reauthorization Workgroup

AGENCY: Health Resources and Services Administration, HHS.

ACTION: Notice of opportunity to provide written comments.

SUMMARY: On May 15, 2003, the Centers for Disease Control and Prevention (CDC)/Health Resources and Services Administration (HRSA) Advisory Committee on HIV and STD Prevention and Treatment (CHACHSPT) established the Ryan White Comprehensive AIDS Resources Emergency (CARE) Act Reauthorization Workgroup. The workgroup is seeking public input about future HIV/AIDS care program directions pertaining to resource allocation issues related to the third reauthorization of the Ryan White CARE Act. The CHACHSPT will subsequently submit a set of formal recommendations relating to resource allocation issues for reauthorization of the Ryan White CARE Act to the HRSA Administrator and the Secretary of the Department of Health and Human Services.

DATES: To be assured of consideration, written comments should be postmarked no later than July 30, 2004.

ADDRESSES: Written comments should be sent to the CHACHSPT, c/o HRSA, HIV/AIDS Bureau, Office of Policy and Program Development, Attention: Shelley Gordon, Parklawn Building, Room 7-18, 5600 Fishers Lane, Rockville, Maryland 20857.

FOR FURTHER INFORMATION CONTACT: Ms. Shelley Gordon, HRSA, HIV/AIDS Bureau, Office of Policy and Program Development, (301) 443-9684, fax (301) 443-3323, or e-mail: SGordon@hrsa.gov.

SUPPLEMENTARY INFORMATION: The purpose of the request for comments is to obtain public input regarding resource allocation issues related to the Ryan White CARE Act, as amended. Resource allocation issues relate to the CARE Act provisions or statutory requirements which affect the distribution of funds across and within the various components of the CARE Act.

In 2003, the CHACHSPT carefully examined all aspects of the CARE Act and considered testimony from three public meetings held around the country designed to gather suggestions about future program directions in HIV and AIDS care and treatment programs. The CHACHSPT developed recommendations which were adopted by the Committee in November 2003 and formally submitted to the HRSA Administrator and the Secretary of the Department of Health and Human Services in 2004. Since that time, the report on Public Financing and Delivery of HIV Care was released by the Institute of Medicine, and new and ongoing issues about HIV/AIDS resources have been raised by communities and CARE constituents. Therefore, further examination by the CHACHSPT of resource allocation issues is desired.

Written comments should be limited to no more than 10 single-spaced pages (or 20 double-spaced) and should contain the name, address, telephone and fax numbers, and any organizational affiliation of the person(s) providing written comments. Respondents may be contacted by the CHACHSPT Ryan White CARE Act Reauthorization Workgroup to answer questions regarding their submitted comments. We are particularly interested in comments which address the following issues:

1. The use of HIV case reporting and service utilization data to determine eligibility under Title I and funding under Titles I and II of the CARE Act;

2. Changes to the existing Titles I and II hold harmless provisions;

3. Changes in the percentages of the Title I grant awarded by formula and competitively;

4. Changes in the percentages of the Title II AIDS Drug Assistance Program (ADAP) distributed by formula and supplemental awards;

5. Comparability and portability of the ADAP; and

6. Institute of Medicine report on: “Public Financing and Delivery of HIV Care: Securing the Legacy of Ryan White.”

(Authority: Pub. L. 92-463 (5 U.S.C., App. 2); 42 U.S.C. 217a, Sec. 222 of the Public Health Service Act)

Dated: June 25, 2004.
Elizabeth M. Duke,
Administrator.

[FR Doc. 04-15088 Filed 7-1-04; 8:45 am]

BILLING CODE 4165-15-P